DIRECTOR OF NATIONAL INTELLIGENCE

Office of the Deputy Director of National Intelligence for Collection; Classified Meeting for Industry on Future Intelligence Collection Architecture

AGENCY: Office of the Deputy Director of National Intelligence for Collection.

ACTION: Notice of meeting.

SUMMARY: The Office of the Deputy Director of National Intelligence for Collection will hold an information meeting to discuss the process by which it is working with Intelligence Community agencies to develop an Integrated Collection Architecture and a budgetary roadmap. The meeting will consist of a briefing by the Assistant Deputy Director of National Intelligence for Technical Means followed by a question and answer session. The primary purpose of the meeting is to provide transparency into the method by which the Office of the Director of National Intelligence will make future investment decisions for the Intelligence Community. No procurement-related information will be discussed at this session. Attendees are asked to RSVP by passing their clearances as described below.

DATES: The meeting will be held on Monday, June 5, 2006 from 9 a.m. to 11 a.m.

ADDRESSES: The meeting will be held at the Heritage Conference Center at TASC Northrop Grumman, 4803 Stonecroft Boulevard in Chantilly, Virginia.

Security: The meeting will be classified at the SECRET level.

Clearances: Attendees are asked to pass their clearances at the SECRET level by fax to TASC at 703-633-2222 and to mark clearly on the fax that the clearance is for the “Collection Meeting.” Clearances should be passed no later than 12 p.m. on Friday, June 2. Passing clearances will constitute the requested RSVP. Attendees must have valid photo identification to gain entrance.

FOR FURTHER INFORMATION CONTACT: The Heritage Conference Center, 703-633-2200.

Dated: April 19, 2006.
Sandra L. Webster,
Acting Assistant Deputy Director of National Intelligence for Technical Means.

[FR Doc. 06-4182 Filed 5-3-06; 8:45 am]

BILLING CODE 3910-A7-P